DEPARTMENT OF LABOR

Office of the Secretary

Submission for OMB Review: Comment Request

January 23, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Occupational Safety and Health Administration (OSHA), Office of Management and Budget, Room 10235, Washington, DC 20503, Telephone: 202-395-7316/Fax: 202-395-6974 (these are not toll-free numbers), E-mail: OIRA_submission@omb.eop.gov within 30 days from the date of this publication in the Federal Register . In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: 13 Carcinogens Standard (29 CFR 1910.1003, 1915.1003, and 1926.1103).

OMB Control Number: 1218-0085.

Affected Public: Business or other for-profits.

Estimated Number of Respondents: 93.

Estimated Total Annual Burden Hours: 1,604.

Estimated Total Annual Costs Burden: $88,734.

Description: The purpose of this standard and its information collection requirements is to provide protection for employees from the adverse effects associated with the occupational exposure to the following carcinogens: 4-Nitrobiphenyl, alpha-Naphthylamine, methyl chloromethyl ether, 3,3-Dichlorobenzidine (and its salts), bis-chloromethyl ether, beta-Naphthylamine, Benzidine, 4-Aminodiphenyl, Ethyleneimine, beta-Propiolactone, 2-Acetylaminofluorene, 4-Dimethylaminoazo-benzene, and N-Nitrosodimethylamine. For additional information, see the related 60-day preclearance notice published in the Federal Register at Vol. 73 FR 55870 on September 26 2008. PRA documentation prepared in association with the preclearance notice is available on http://www.regulations.gov under docket number OSHA 2008-0030.

Agency: Occupational Safety and Health Administration.

Type of Review: Extension without change of a previously approved collection.

Title of Collection: Asbestos in Construction Standard (29 CFR 1926.1101).

OMB Control Number: 1218-0134.

Affected Public: Business or other for-profits.

Estimated Number of Respondents: 255,271.

Estimated Total Annual Burden Hours: 4,957,808.

Estimated Total Annual Costs Burden: $28,279,071.

Description: The Asbestos in Construction Standard requires employers to train employees about the hazards of asbestos, monitor employee exposure, provide medical surveillance, and maintain accurate records of employee exposure to asbestos. These records are used by employers, employees and the Government to ensure that employees are not harmed by exposure to asbestos in the workplace. For additional information, see the related 60-day preclearance notice published in the Federal Register at Vol. 73 FR 61913 on October 17, 2008. PRA documentation prepared in association with the preclearance notice is available on http://www.regulations.gov under docket number OSHA 2008-0039.

Agency: Occupational Safety and Health Administration.

Type of Review: Extension without change of a previously approved collection.

Title of Collection: Permit-Required Confined Spaces (29 CFR 1910.146).

OMB Control Number: 1218-0203.

Affected Public: Business or other for-profits.

Estimated Number of Respondents: 219,456.

Estimated Total Annual Burden Hours: 1,475,091.

Estimated Total Annual Costs Burden: $0.

Description: The collections of information are needed by employers and employees involved in the entry of permit-required confined spaces to prevent injuries and death from exposure to the hazards associated with such entries. For additional information, see the related 60-day preclearance notice published in the Federal Register at Vol. 73 FR 66683 on November 10, 2008. PRA documentation prepared in association with the preclearance notice is available on http://www.regulations.gov under docket number OSHA 2008-0044.

Darrin A. King,
Departmental Clearance Officer.

[FR Doc. E9-1922 Filed 1-28-09; 8:45 am]

BILLING CODE 4510-26-P